DEPARTMENT OF ENERGY

Federal Energy Regulatory Commission

[Project No. 14491-000; Project No. 13579-002]

Western Minnesota Municipal Power Agency; FFP Qualified Hydro 14, LLC; Notice of Competing Preliminary Permit Applications Accepted for Filing and Soliciting Comments, Motions To Intervene, and Competing Applications

On February 1, 2013, Western Minnesota Municipal Power Agency and FFP Qualified Hydro 14, LLC filed preliminary permit applications pursuant to section 4(f) of the Federal Power Act proposing to study the feasibility of a hydropower project, to be located at the existing Saylorville Lock and Dam on the Des Moines River, in the city of Johnston in Polk County, Iowa. FFP Qualified Hydro 14, LLC's application is for a successive preliminary permit. Saylorville Lock and Dam is owned by the United States government and operated by the United States Army Corps of Engineers. The sole purpose of a preliminary permit, if issued, is to grant the permit holder priority to file a license application during the permit term. A preliminary permit does not authorize the permit holder to perform any land-disturbing activities or otherwise enter upon lands or waters owned by others without the owner's express permission.

Western Minnesota Municipal Power Agency's proposed project would consist of: (1) A new 80-foot-long by 35-foot-wide by 95-foot-high concrete intake; (2) three new 14-foot-diameter by 740-foot long conduits; (3) a new 100-foot-long by 50-foot-wide concrete powerhouse with three 5-megawatt (MW) turbines, having a combined generating capacity of 15 MW; (4) three new 7.5-MW generator units; (5) a 100-foot-long by 75-foot-wide substation; (6) a new 3.73-mile-long, 69-kilovolt transmission line; and (7) appurtenant facilities. The project would have an estimated annual generation of 66 gigawatt-hours.

Applicant Contact: Mr. Raymond J. Wahle, 3724 W. Avera Drive, Sioux Falls, SD 57109; (605) 330-6963.

FFP Qualified Hydro 14, LLC's proposed project would consist of: (1) A new 400-foot-long by 300-foot-wide forebay channel; (2) a new 75-foot-long by 50-foot-wide by 140-foot-high concrete intake; (3) a new 18-foot-diameter by 75-foot-long concrete lined headrace tunnel; (4) a new18-foot-diameter by 250-foot-long steel penstock; (5) three 10-foot-diameter, various-length pipelines that connects the penstock to the proposed turbines; (6) a new 120-foot-long by 70-foot-wide concrete powerhouse, containing three 4.8-MW Kaplan turbine-generators, with a combined nameplate capacity of 14.4 MW; (7) a new 275-foot-long by 190-foot-wide tailrace channel; (8) a new 60-foot-long by 50-foot-wide substation; (9) a new 4,950-foot-long, 69-kilovolt transmission line between the project substation to an interconnection point and a buried 1000-foot-long, 4.16-kV line from the powerhouse to the project substation; and (10) appurtenant facilities. The project would have an estimated annual generation of 45.3 gigawatt-hours.

Applicant Contact: Ms. Ramya Swaminathan, 239 Causeway Street, Suite 300, Boston, MA 02114; (978) 283-2822.

FERC Contact: Tyrone A. Williams, (202) 502-6331.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

More information about this project, including a copy of either application can be viewed or printed on the “eLibrary” link of Commission's Web site at http://www.ferc.gov/docs-filing/elibrary.asp. Enter the docket number (P-14491 or P-13579) in the docket number field to access the document. For assistance, contact FERC Online Support.

Dated: March 15, 2013.
Kimberly D. Bose,
Secretary.

[FR Doc. 2013-06601 Filed 3-21-13; 8:45 am]

BILLING CODE 6717-01-P